DEPARTMENT OF ENERGY

Federal Energy Regulatory Commission

Notice Concerning Submissions Made During Federal Government Closures

Take notice that the Commission is adopting the following practice with respect to submittals to the Commission during Federal government office closures.

Effective January 22, 2016, the Commission will not accept submittals—either in electronic format submitted through “FERC Online” (including through eFiling and eTariff) or in hardcopy format—when the Commission is closed at the direction of the Office of Personnel Management (OPM) or Presidential Executive Order closing Federal government offices in Washington, DC.¹

¹ On January 22, 2016, OPM announced that all Federal Government offices in the District of Columbia metropolitan area will be closed at 12 noon. The above-described practice will be in effect that day.

At such time as the Commission reopens, it will again accept submittals both in electronic format through “FERC Online” (including through eFiling and eTariff) and in hardcopy format.

Dated: January 22, 2016.
Nathaniel J. Davis, Sr.,
Deputy Secretary.

[FR Doc. 2016-01805 Filed 2-1-16; 8:45 am]

BILLING CODE 6717-01-P